INTERNATIONAL TRADE COMMISSION

[Investigation No. 731-TA-1545 (Final)]

Utility Scale Wind Towers From Spain; Scheduling of the Final Phase of Anti-Dumping Duty Investigation

AGENCY: United States International Trade Commission.

ACTION: Notice.

DATES: June 25, 2021.

FOR FURTHER INFORMATION CONTACT: Julie Duffy ((202) 708-2579), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: Effective March 19, 2021, the Commission established a general schedule for the conduct of the final phase of its investigations on utility scale wind towers (“wind towers”) from India, Malaysia, and Spain (86 FR 20197, April 16, 2021), following preliminary determinations by the U.S. Department of Commerce (“Commerce”) that imports of subject wind towers from India and Malaysia were subsidized by the governments of India and Malaysia (86 FR 15887, March 25, 2021; and 86 FR 15897, March 25, 2021) and imports of subject wind towers from Spain were being sold in the United States at less than fair value (86 FR 17354, April 2, 2021). Notice of the scheduling of the final phase of the Commission's investigations and of a public hearing held in connection therewith was given by posting copies of the notice in the Office of the Secretary, U.S. International Trade Commission, Washington, DC, and by publishing the notice in the Federal Register on April 16, 2021 (86 FR 20197). Counsel for the Wind Tower Trade Coalition withdrew its previously filed request to appear at the hearing, after no other parties submitted a request to appear, and indicated a willingness to submit written responses to any Commission questions in lieu of an actual hearing. Consequently, since no party to the investigation requested a hearing, the Commission canceled its hearing in connection with these investigations (86 FR 31730). Parties to these investigations responded to written questions posed by the Commission in their posthearing briefs.

Commerce has issued a final affirmative countervailing duty determination with respect to wind towers from Malaysia (86 FR 30593, June 9, 2021). The Commission is scheduled to issue its final determination as to whether an industry in the United States is materially injured or threatened with material injury, or the establishment of an industry in the United States is materially retarded, by reason of imports of wind towers from Malaysia provided for in subheadings 7308.20.00 and 8502.31.00 of the Harmonized Tariff Schedule of the United States (“HTSUS”) that have been found by Commerce to be subsidized by the government of Malaysia by July 26, 2021.

Commerce recently has issued a final affirmative antidumping duty determination with respect to wind towers from Spain (86 FR 33656, June 25, 2021). Accordingly, the Commission currently is issuing a supplemental schedule for its antidumping duty investigation on imports of wind towers from Spain.

This supplemental schedule is as follows: The deadline for filing supplemental party comments on Commerce's final antidumping duty determination is July 7, 2021. Supplemental party comments may address only Commerce's final antidumping duty determination regarding imports of wind towers from Spain. These supplemental final comments may not contain new factual information and may not exceed five (5) pages in length. The supplemental staff report in the final phase of this investigation regarding subject imports from Spain will be placed in the nonpublic record on July 19, 2021, and a public version will be issued thereafter.

For further information concerning these investigations see the Commission's notice cited above and the Commission's Rules of Practice and Procedure, part 201, subparts A and B (19 CFR part 201), and part 207, subparts A and C (19 CFR part 207).

Additional written submissions to the Commission, including requests pursuant to section 201.12 of the Commission's rules, shall not be accepted unless good cause is shown for accepting such submissions, or unless the submission is pursuant to a specific request by a Commissioner or Commission staff.

In accordance with sections 201.16(c) and 207.3 of the Commission's rules, each document filed by a party to the investigations must be served on all other parties to the investigations (as identified by either the public or BPI service list), and a certificate of service must be timely filed. The Secretary will not accept a document for filing without a certificate of service.

Please note the Secretary's Office will accept only electronic filings during this time. Filings must be made through the Commission's Electronic Document Information System (EDIS, https://edis.usitc.gov.) No in-person paper-based filings or paper copies of any electronic filings will be accepted until further notice.

Authority: These investigations are being conducted under authority of title VII of the Tariff Act of 1930; this notice is published pursuant to section 207.21 of the Commission's rules.

By order of the Commission.
Issued: July 6, 2021.
Lisa Barton,
Secretary to the Commission.

[FR Doc. 2021-14648 Filed 7-8-21; 8:45 am]

BILLING CODE 7020-02-P